DEPARTMENT OF THE TREASURY

Office of Foreign Assets Control

Notice of OFAC Sanctions Actions.

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On November 28, 2018, OFAC determined that the property and interests in property subject to U.S. jurisdiction of the following persons are blocked under the relevant sanctions authority listed below.

Individuals:

1. GHORBANIYAN, Mohammad (a.k.a. GHORBANIAN, Mohammad; a.k.a. “EnExchanger”; a.k.a. “Ensaniyat”; a.k.a. “Ensaniyat_Exchanger”), Iran; DOB 09 Mar 1987; POB Tehran, Iran; nationality Iran; website www.enexchanger.com; Email Address EnExchanger@gmail.com; alt. Email Address Ensaniyat1365@gmail.com; Additional Sanctions Information—Subject to Secondary Sanctions; Gender Male; Digital Currency Address—XBT 1AjZPMsnmpdK2Rv9KQNfMurTXinscVro9V; Identification Number 008-046347-9 (Iran); Birth Certificate Number 32270 (Iran) (individual) [CYBER2].

2. KHORASHADIZADEH, Ali (a.k.a. “Iranvisacart”; a.k.a. “Mastercartaria”), Iran; DOB 21 Sep 1979; POB Tehran, Iran; nationality Iran; Email Address iranvisacart@yahoo.com; alt. Email Address mastercartaria@yahoo.com; alt. Email Address alikhorashadi@yahoo.com; alt. Email Address toppglasses@gmail.com; alt. Email Address iranian_boy5@yahoo.com; Additional Sanctions Information—Subject to Secondary Sanctions; Gender Male; Digital Currency Address—XBT 149w62rY42aZBox8fGcmqNsXUzSStKeq8C; Passport T14553558 (Iran) issued 28 Oct 2008 expires 29 Oct 2013 (individual) [CYBER2].

Designated pursuant to section 1(a)(iii)(B) of Executive Order 13694 of April 1, 2015, “Blocking the Property of Certain Persons Engaging in Significant Malicious Cyber-Enabled Activities,” as amended, (E.O. 13694) for having materially assisted, sponsored, or provided financial, material, or technological support for, or goods or services to or in support of an activity described in section 1(a)(ii) of E.O. 13694, namely the SamSam ransomware attacks.

Dated: November 28, 2018.
Andrea Gacki,
Director, Office of Foreign Assets Control.

[FR Doc. 2018-26216 Filed 12-3-18; 8:45 am]

BILLING CODE 4810-AL-P